DEPARTMENT OF ENERGY

Federal Energy Regulatory Commission

Combined Notice of Filings #1

July 16, 2010.

Take notice that the Commission received the following electric corporate filings:

Docket Numbers: EC87-10-000.

Applicants: Public Service Company of New Mexico.

Description: Public Service Company of New Mexico submits their report under oath concerning matter relating to securities of other public utilities.

Filed Date: 07/15/2010.

Accession Number: 20100715-0013.

Comment Date: 5 p.m. e.t. on Thursday, August 5, 2010.

Take notice that the Commission received the following electric rate filings:

Docket Numbers: ER07-876-002.

Applicants: Chevron Coalinga Energy Company.

Description: Chevron Coalinga Energy Co submits the Order No. 697 Compliance Filing.

Filed Date: 07/12/2010.

Accession Number: 20100712-0007.

Comment Date: 5 p.m. e.t. on Monday, August 2, 2010.

Docket Numbers: ER08-416-006; ER06-1552-008.

Applicants: Midwest Independent Transmission System.

Description: Midwest Independent Transmission Operator, Inc submits revised tariff sheets as directed by the Commission.

Filed Date: 07/14/2010.

Accession Number: 20100714-0203.

Comment Date: 5 p.m. e.t. on Wednesday, August 4, 2010.

Docket Numbers: ER10-1089-002.

Applicants: EquiPower Resources Management, LLC.

Description: EquiPower Resources Management, LLC submits additional information to its 4/23/10 filing.

Filed Date: 07/15/2010.

Accession Number: 20100715-0214.

Comment Date: 5 p.m. e.t. on Thursday, August 5, 2010.

Docket Numbers: ER10-1443-001.

Applicants: Criterion Power Partners, LLC.

Description: Criterion Power Partners, LLC submits amendment to its Application for Order Authorizing Market-Based Rates, Certain Waivers, and Blanket Authorization which was filed on 6/15/10.

Filed Date: 07/15/2010.

Accession Number: 20100715-0213.

Comment Date: 5 p.m. e.t. on Monday, July 26, 2010.

Docket Numbers: ER10-1773-000.

Applicants: Allegheny Energy Supply Company LLC.

Description: Allegheny Energy Supply Company, LLC submits request for authorization to make wholesale power sales to its affiliate.

Filed Date: 07/14/2010.

Accession Number: 20100714-0206.

Comment Date: 5 p.m. e.t. on Wednesday, August 4, 2010.

Docket Numbers: ER10-1779-000.

Applicants: PJM Interconnection, L.L.C.

Description: PJM Interconnection, Inc submits an executed interconnection construction service agreement with Blackstone Wind Farm II, LLC et al.

Filed Date: 07/14/2010.

Accession Number: 20100715-0201.

Comment Date: 5 p.m. e.t. on Wednesday, August 4, 2010.

Docket Numbers: ER10-1780-000.

Applicants: PJM Interconnection, L.L.C.

Description: PJM Interconnection, Inc submits an executed Wholesale Market Participation Agreement with Sustainable Energy Holdings, LLC et al.

Filed Date: 07/14/2010.

Accession Number: 20100715-0202.

Comment Date: 5 p.m. e.t. on Wednesday, August 4, 2010.

Docket Numbers: ER10-1783-000.

Applicants: REP Energy.

Description: REP Energy LLC submits the Petition for Acceptance of Initial Rate Schedule, Waivers and Blanket Authority.

Filed Date: 07/15/2010.

Accession Number: 20100715-0208.

Comment Date: 5 p.m. e.t. on Thursday, August 5, 2010.

Docket Numbers: ER10-1784-000.

Applicants: PacifiCorp.

Description: PacifiCorp submits jurisdictional agreement re the Second Revised Network Integration Transmission Service Agreement.

Filed Date: 07/15/2010.

Accession Number: 20100715-0235.

Comment Date: 5 p.m. e.t. on Thursday, August 5, 2010.

Docket Numbers: ER10-895-004.

Applicants: The Detroit Edison Company.

Description: Detroit Edison Company submits a request for an effective date of the delayed Notice of Cancellation.

Filed Date: 07/14/2010.

Accession Number: 20100714-0204.

Comment Date: 5 p.m. e.t. on Wednesday, August 4, 2010.

Any person desiring to intervene or to protest in any of the above proceedings must file in accordance with Rules 211 and 214 of the Commission's Rules of Practice and Procedure (18 CFR 385.211 and 385.214) on or before 5 p.m. e.t. on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov, or call (866) 208-3676 (toll free). For TTY, call (202) 502-8659.

Nathaniel J. Davis, Sr.,
Deputy Secretary.

[FR Doc. 2010-18311 Filed 7-26-10; 8:45 am]

BILLING CODE 6717-01-P